DEPARTMENT OF TRANSPORTATION

Federal Motor Carrier Safety Administration

[Docket No. FMCSA-2006-26367]

Medical Review Board (MRB) Meeting: Public Meeting

AGENCY: Federal Motor Carrier Safety Administration (FMCSA), DOT.

ACTION: Announcement of advisory committee public meeting.

SUMMARY: FMCSA announces a meeting of its Medical Review Board (MRB) on Tuesday and Wednesday, September 26-27, 2017. The MRB will make recommendations to the Agency on the revision of the Agency's handbook for medical examiners (ME) who are on the National Registry of Certified Medical Examiners (National Registry), for their use in evaluating interstate commercial motor vehicle (CMV) drivers for a medical qualification determination. Additionally, the MRB will review the Agency's current advisory and exemption program criteria concerning individuals taking anti-seizure medication and identify factors the Agency should consider for potential regulatory actions that would eliminate the need for granting exemptions. The meeting is open to the public for its entirety. The public will be allowed to comment during the proceedings.

DATES: The meeting will be held on Tuesday and Wednesday, September 26-27, 2017, from 9:15 a.m. to 4:30 p.m., Eastern Daylight Time (E.T.), at the FMCSA National Training Center, 1310 N. Courthouse Road, Arlington, VA, 6th Floor. Copies of the task statement and an agenda for the entire meeting will be made available in advance of the meeting at www.fmcsa.dot.gov/mrb.

FOR FURTHER INFORMATION CONTACT: Ms. Shannon L. Watson, Senior Advisor to the Associate Administrator for Policy, Federal Motor Carrier Safety Administration, U.S. Department of Transportation, 1200 New Jersey Avenue SE., Washington, DC 20590, (202) 366-5221, mrb@dot.gov.

Services for Individuals With Disabilities

For information on facilities or services for individuals with disabilities or to request special assistance at the meeting, contact Eran Segev at (617) 494-3174, eran.segev@dot.gov, by Wednesday, September 20.

SUPPLEMENTARY INFORMATION:

I. Background

The MRB is composed of five medical experts who each serve two-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2015.

On January 15, 2013, FMCSA announced in a Notice of Final Disposition entitled, Qualification of Drivers; Exemption Applications; Epilepsy and Seizure Disorders, (78 FR 3069), its decision to grant requests from 22 individuals for exemptions from the regulatory requirement that interstate CMV drivers have “no established medical history or clinical diagnosis of epilepsy or any other condition which is likely to cause loss of consciousness or any loss of ability to control a CMV.” Since the January 15, 2013, notice, the Agency has published additional notices granting requests from individuals for exemptions from the regulatory requirement regarding epilepsy found in 49 CFR 391.41(b)(8).

In reaching the decision to grant exemption requests, FMCSA considers the 2007 recommendations of the Agency's Medical Expert Panel (MEP). The January 15, 2013, Federal Register notice (78 FR 3069) provides the current MEP recommendations, which is the criteria the Agency uses to grant seizure exemptions.

The Agency's decision regarding exemption applications is based on an individualized assessment of each applicant's medical information, including the following: The root cause of the respective seizure(s) and medical information about the applicant's seizure history; the length of time that has elapsed since the individual's last seizure; the stability of each individual's treatment regimen; and the duration of time on or off anti-seizure medication. In addition, the Agency reviews the treating clinician's medical opinion related to the ability of the driver to operate a CMV safely with a history of seizure and each applicant's driving record found in the Commercial Driver's License Information System (CDLIS) for commercial driver's license (CDL) holders, and interstate and intrastate inspections recorded in the Motor Carrier Management Information System (MCMIS). For non-CDL holders, the Agency reviews the driving records from the State Driver's Licensing Agencies (SDLAs).

II. Meeting Participation

Oral comments from the public will be heard during the meeting, at the discretion of the Chairman. Members of the public may submit written comments on the topics to be considered during the meeting by Wednesday, September 20, to Federal Docket Management System (FDMC) Docket Number FMCSA-2008-0362 for the MRB using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: September 13, 2017.
Larry W. Minor,
Associate Administrator for Policy.

[FR Doc. 2017-19906 Filed 9-18-17; 8:45 am]

BILLING CODE 4910-EX-P